FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (www.fmc.gov) or by contacting the Office of Agreements at (202) 523-5793 or tradeanalysis@fmc.gov.

Agreement No.: 012061-003.

Title: CMA CGM/Maersk Line Space Charter, Sailing and Cooperative Working Agreement Western Mediterranean-U.S. East Coast.

Parties: CMA CGM, S.A. and A.P. Moller-Maersk A/S.

Filing Party: Mark E. Newcomb, Esq.; CMA CGM America, LLC; 5701 Lake Wright Drive, Norfolk, VA 23502-1868.

Synopsis: The amendment revises the agreement scope to include U.S. Gulf ports.

By Order of the Federal Maritime Commission.
Dated: January 20, 2012.
Rachel E. Dickon,
Assistant Secretary.

[FR Doc. 2012-1557 Filed 1-24-12; 8:45 am]

BILLING CODE P